NUCLEAR REGULATORY COMMISSION

Sunshine Act Meeting

Dates: Weeks of July 2, 9, 16, 23, 30, August 6, 2007.

Place: Commissioners' Conference Room, 11555 Rockville Pike, Rockville, Maryland.

Status: Public and Closed.

Matters To Be Considered

Week of July 2, 2007

There are no meetings scheduled for the Week of July 2, 2007.

Week of July 9, 2007—Tentative

There are no meetings scheduled for the Week of July 9, 2007.

Week of July 16, 2007—Tentative

Wednesday, July 18, 2007

10 a.m. Discussion of Security Issues (Closed—Ex. 1 & 3).

1 p.m. Briefing on Digital Instrumentation and Control (Public Meeting) (Contact: William Kemper, 301 415-7585).

This meeting will be webcast live at the Web address— http://www.nrc.gov.

Week of July 23, 2007—Tentative

Tuesday, July 24, 2007

2 p.m. Briefing on Palo Verde Nuclear Generating Station (Public Meeting) (Contact: Michael Markley, 301 415-5723).

This meeting will be webcast live at the Web address— http://www.nrc.gov.

Wednesday, July 25, 2007

2 p.m. Discussion of Management Issues (Closed—Ex. 2).

Week of July 30, 2007

There are no meetings scheduled for the Week of July 30, 2007.

Week of August 6, 2007

There are no meetings scheduled for the Week of August 6, 2007.

* * * * *

The schedule for Commission meetings is subject to change on short notice. To verify the status of meetings call (recording)—(301) 415-1292. Contact person for more information: Michelle Schroll, (301) 415-1662.

* * * * *

The NRC Commission Meeting Schedule can be found on the Internet at: www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: June 28, 2007.
R. Michelle Schroll,
Office of the Secretary.

[FR Doc. 07-3253 Filed 6-29-07; 11:05 am]

BILLING CODE 7590-01-P